DEPARTMENT OF STATE

[Delegation of Authority No. 236-4]

Re-Delegation by the Assistant Secretary of State for Educational and Cultural Affairs to the Principal Deputy Assistant Secretary for Educational and Cultural Affairs of Authority Under Section 102 of the Mutual Educational and Cultural Exchange Act of 1961, as Amended

By virtue of the authority vested in me as the Assistant Secretary of State for Educational and Cultural Affairs, including by Delegation of Authority No. 236-3 (August 28, 2000), and to the extent permitted by law, I hereby re-delegate to the Principal Deputy Assistant Secretary for Educational and Cultural Affairs the functions in section 102 of the Mutual Educational and Cultural Exchange Act of 1961, as amended (22 U.S.C. § 2452) relating to the provision by grant, contract or otherwise for a wide variety of educational and cultural exchanges.

Notwithstanding this Delegation, the Secretary, the Deputy Secretary, the Deputy Secretary for Management and Resources, the Under Secretary for Public Diplomacy and Public Affairs, and the Assistant Secretary for Educational and Cultural Affairs may at any time exercise the functions delegated herein.

Any reference in this Delegation of Authority to any statute or delegation of authority shall be deemed to be a reference to such statute or delegation of authority as amended from time to time.

This Delegation shall be published in the Federal Register.

Dated: January 31, 2014.
Evan Ryan,
Assistant Secretary for Educational and Cultural Affairs, U.S. Department of State.

[FR Doc. 2014-04869 Filed 3-4-14; 8:45 am]

BILLING CODE 4710-05-P